DEPARTMENT OF TRANSPORTATION

National Highway Traffic Safety Administration

49 CFR Part 571

[Docket No. NHTSA-2019-0036]

RIN 2127-AM00

Removing Regulatory Barriers for Vehicles With Automated Driving Systems; Extension of Comment Period

AGENCY: National Highway Traffic Safety Administration (NHTSA), Department of Transportation (DOT).

ACTION: Advance notice of proposed rulemaking (ANPRM); Extension of comment period.

SUMMARY: In response to a request from the public, NHTSA is announcing a 30-day extension of the comment period on the ANPRM on Removing Regulatory Barriers for Vehicles with Automated Driving Systems. The comment period for the ANPRM was originally scheduled to end on July 29, 2019. It will now end on August 28, 2019.

DATES: The comment period for the ANPRM published on May 28, 2019 at 84 FR 24433 is extended. Written comments on the ANPRM must be received on or before August 28, 2019 in order to be considered timely.

ADDRESSES: Comments must be submitted by one of the following methods:

• Federal eRulemaking Portal: go to http://www.regulations.gov. Follow the online instructions for submitting comments.

• Mail: Docket Management Facility, M-30, U.S. Department of Transportation, West Building, Ground Floor, Rm. W12-140, 1200 New Jersey Avenue SE, Washington, DC 20590.

• Hand Delivery or Courier: West Building Ground Floor, Room W12-140, 1200 New Jersey Avenue SE, between 9 a.m. and 5 p.m. Eastern Time, Monday through Friday, except Federal holidays.

• Fax: (202) 493-2251.

Regardless of how you submit your comments, they must include the docket number identified in the heading of this notice.

Not that all comments received, including any personal information provided, will be posted without change to http://www.regulations.gov. Please see the “Privacy Act” heading below.

You may call the Docket Management Facility at 202-366-9324.

Docket: For access to the docket to read background documents or comments received, go to http://www.regulations.gov or the street address listed above. We will continue to file relevant information in the docket as it becomes available.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: David Hines, Director, Office of Crash Avoidance Standards, Telephone: (202) 366-1810. Facsimile: (202) 366-7002. Sara Bennett, Attorney-Advisor, Vehicle Rulemaking and Harmonization, Office of Chief Counsel, Telephone (202) 366-2992. Facsimile: (202) 366-3820.

SUPPLEMENTARY INFORMATION: On May 28, 2019, NHTSA published an ANPRM to obtain public comments on the near- and long-term challenges of testing and verifying compliance with existing crash avoidance (100-series) Federal Motor Vehicle Safety Standards for Automated Driving System-Dedicated Vehicles that lack traditional manual controls necessary for a human driver to maneuver the vehicle and other features intended to facilitate operation of a vehicle by a human driver, but that are otherwise traditional vehicles with typical seating configurations. The ANPRM stated that the closing date for comments is July 29, 2019.

On July 15, 2019, NHTSA received a request from the American Public Transportation Association (APTA) for a 60-day extension of the comment period. The request can be found in the docket for the ANPRM identified in the heading of this notice. NHTSA has considered this request and believes that a 30-day extension beyond the original due date appropriately balances NHTSA's interest in providing the public with sufficient time to comment on the complex and novel questions raised in the ANPRM, with its interest in safely addressing regulatory barriers in a timely manner. This is to notify the public that NHTSA is extending the comment period on the ANPRM, and allowing it to remain open until August 28, 2019.

We note that, in addition to requesting an extension of the ANPRM comment period, APTA also requested NHTSA hold a public meeting or webinar on the issues raised in the ANPRM. NHTSA is considering whether to hold a public meeting or webinar on the issues raised in the ANPRM, and will decide whether to do so once the agency has considered the comments received during the full extended comment period.

Authority: Delegation of authority at 49 CFR 1.95 and 501.5.

Heidi Renate King,
Deputy Administrator, National Highway Traffic Safety Administration.

[FR Doc. 2019-16040 Filed 7-26-19; 8:45 am]

BILLING CODE 4910-59-P